DEPARTMENT OF ENERGY

Federal Energy Regulatory Commission

[Docket No. RP04-205-000]

Northern Border Pipeline Company; Notice of Proposed Changes in FERC Gas Tariff

March 5, 2004.

Take notice that on March 2, 2004, Northern Border Pipeline Company (Northern Border) tendered for filing to become part of Northern Border's FERC Gas Tariff, First Revised Volume No. 1, the following tariff sheets to become effective April 1, 2004:

Seventh Revised Sheet No. 1

Sixth Revised Sheet No. 212

Third Revised Sheet No. 98

Original Sheet No. 193

Tenth Revised Sheet No. 213

Original Sheet No. 194

Original Sheet No. 195

Fourth Revised Sheet No. 218

Original Sheet No. 196

Original Sheet No. 197

Original Sheet No. 469

Original Sheet No. 198

Third Revised Sheet No. 204

Original Sheet No. 470

Original Sheet No. 204A

Original Sheet No. 471

Original Sheet No. 472

Original Sheet No. 473

Sheet Nos. 474-499

Northern Border states that it is filing revised tariff sheets for the purpose of establishing a new Rate Schedule, referred to as Rate Schedule TPB. Northern Border also states that this rate schedule is designed to provide a Third Party Balancing Service to fulfill a need on Northern Border's system to assist customers in accessing balancing services to meet variable load requirements.

Northern Border states that copies of this filing have been sent to all of Northern Border's contracted shippers and interested State regulatory commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-545 Filed 3-10-04; 8:45 am]

BILLING CODE 6717-01-P